DEPARTMENT OF ENERGY

Federal Energy Regulatory Commission

Combined Notice Of Filings

Take notice that the Commission has received the following Natural Gas Pipeline Rate and Refund Report filings:

Filings Instituting Proceedings

Docket Numbers: RP14-467-000.

Applicants: Gulf South Pipeline Company, LP.

Description: PAL Neg Rate Agmts Filing (41983, 41984, 41985, 41986, 41989) to be effective 2/12/2014.

Filed Date: 2/12/14.

Accession Number: 20140212-5018.

Comments Due: 5 p.m. ET 2/24/14.

Docket Numbers: RP14-468-000.

Applicants: Iroquois Gas Transmission System, L.P.

Description: 02/12/14 Negotiated Rates—Trafigura (HUB) 7445-89 to be effective 2/11/2014.

Filed Date: 2/12/14.

Accession Number: 20140212-5024.

Comments Due: 5 p.m. ET 2/24/14.

Docket Numbers: RP14-469-000.

Applicants: Northern Natural Gas Company.

Description: Northern Natural Gas submits for filing a report of the penalty and daily delivery variance charge (DDVC) revenues for the period November 1, 2012, through October 31, 2013, that have been credited to shippers.

Filed Date: 2/12/14.

Accession Number: 20140212-5029.

Comments Due: 5 p.m. ET 2/24/14.

Docket Numbers: RP14-470-000.

Applicants: Gulf South Pipeline Company, LP.

Description: PAL Neg Rate Agmts (41996, 41997, 41998, 42000, 42001, 42004) to be effective 2/12/2014.

Filed Date: 2/12/14.

Accession Number: 20140212-5058.

Comments Due: 5 p.m. ET 2/24/14.

Docket Numbers: RP14-471-000.

Applicants: Iroquois Gas Transmission System, L.P.

Description: 02/12/14 Negotiated Rates—Sequent Energy Management (HUB) 3075-89 to be effective 2/11/2014.

Filed Date: 2/12/14.

Accession Number: 20140212-5091.

Comments Due: 5 p.m. ET 2/24/14.

Docket Numbers: RP14-472-000.

Applicants: Midwestern Gas Transmission Company.

Description: PAL Negotiated Rate Agreement—NJR Energy Services Company to be effective 2/13/2014.

Filed Date: 2/12/14.

Accession Number: 20140212-5092.

Comments Due: 5 p.m. ET 2/24/14.

Docket Numbers: RP14-473-000.

Applicants: Natural Gas Pipeline Company of America.

Description: Negotiated Rate Filing—Winsconsin Electric Amendment to be effective 4/1/2014.

Filed Date: 2/12/14.

Accession Number: 20140212-5103.

Comments Due: 5 p.m. ET 2/24/14.

Docket Numbers: RP14-474-000.

Applicants: Iroquois Gas Transmission System, L.P.

Description: 02/12/14 Negotiated Rates—JP Morgan Ventures Energy Corp (HUB) 6025-89 to be effective 2/12/2014.

Filed Date: 2/13/14.

Accession Number: 20140213-5002.

Comments Due: 5 p.m. ET 2/25/14.

Docket Numbers: RP14-475-000.

Applicants: Iroquois Gas Transmission System, L.P.

Description: 02/14/14 Negotiated Rates—Trafigura AG (HUB) 7445-89 to be effective 2/13/2014.

Filed Date: 2/14/14.

Accession Number: 20140214-5022.

Comments Due: 5 p.m. ET 2/26/14.

Docket Numbers: RP14-476-000.

Applicants: Great Lakes Gas Transmission Limited Par.

Description: CIAC Agreements to be effective 3/18/2014.

Filed Date: 2/14/14.

Accession Number: 20140214-5024.

Comments Due: 5 p.m. ET 2/26/14.

Docket Numbers: RP14-477-000.

Applicants: National Fuel Gas Supply Corporation.

Description: Fuel Tracker (04/01/14) to be effective 4/1/2014.

Filed Date: 2/14/14.

Accession Number: 20140214-5066.

Comments Due: 5 p.m. ET 2/26/14.

Docket Numbers: RP14-478-000.

Applicants: Cameron Interstate Pipeline, LLC.

Description: Cameron Interstate Pipeline Section 9 Update to be effective 11/1/2010.

Filed Date: 2/14/14.

Accession Number: 20140214-5067.

Comments Due: 5 p.m. ET 2/26/14.

Docket Numbers: RP14-479-000.

Applicants: Equitrans, L.P.

Description: Rate Schedule NOFT Revisions to be effective 3/31/2014.

Filed Date: 2/14/14.

Accession Number: 20140214-5148.

Comments Due: 5 p.m. ET 2/26/14.

Docket Numbers: RP14-480-000.

Applicants: Iroquois Gas Transmission System, L.P.

Description: 02/18/14 Negotiated Rates—JP Morgan Ventures Energy Corp (HUB) 6025-89 to be effective 2/16/2014.

Filed Date: 2/18/14.

Accession Number: 20140218-5001.

Comments Due: 5 p.m. ET 3/3/14.

Docket Numbers: RP14-481-000.

Applicants: Tennessee Gas Pipeline Company, L.L.C.

Description: Rate Schedule PAL to be effective 11/15/2013.

Filed Date: 2/18/14.

Accession Number: 20140218-5002.

Comments Due: 5 p.m. ET 3/3/14.

Docket Numbers: RP14-482-000.

Applicants: Natural Gas Pipeline Company of America.

Description: City of Salem Negotiated Rate to be effective 4/1/2014.

Filed Date: 2/18/14.

Accession Number: 20140218-5003.

Comments Due: 5 p.m. ET 3/3/14.

Docket Numbers: RP14-483-000.

Applicants: Gulf South Pipeline Company, LP.

Description: PAL Neg Rate Agmt Filing (MacQuarie 42014) to be effective 2/15/2014.

Filed Date: 2/18/14.

Accession Number: 20140218-5066.

Comments Due: 5 p.m. ET 3/3/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: CP07-398-006.

Applicants: Gulf Crossing Pipeline Company LLC.

Description: Abbreviated Joint Application Requesting Amendment of a Certificate of Public Convenience and Necessity of Gulf Crossing Pipeline Company LLC, et al under CP07-398, et al.

Filed Date: 12/19/13.

Accession Number: 20131219-5247.

Comments Due: 5 p.m. ET 2/26/14.

Docket Numbers: CP07-403-002.

Applicants: Gulf Crossing Pipeline Company LLC.

Description: Abbreviated Joint Application Requesting Amendment of a Certificate of Public Convenience and Necessity of Gulf Crossing Pipeline Company LLC, et al under CP07-398, et al.

Filed Date: 12/19/13.

Accession Number: 20131219-5247.

Comments Due: 5 p.m. ET 2/26/14.

Docket Numbers: RP13-941-004.

Applicants: Southern Star Central Gas Pipeline, Inc.

Description: Rate Case (RP13-941) Interim Settlement Rates Filing to be effective 2/1/2014.

Filed Date: 2/12/14.

Accession Number: 20140212-5090.

Comments Due: 5 p.m. ET 2/24/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2014.
Nathaniel J. Davis, Sr.,
Deputy Secretary.

[FR Doc. 2014-03921 Filed 2-24-14; 8:45 am]

BILLING CODE 6717-01-P